DEPARTMENT OF COMMERCE

National Oceanic and Atmospheric Administration

RIN 0648-XA341

Marine Mammals; File No. 15324

AGENCY: National Marine Fisheries Service (NMFS), National Oceanic and Atmospheric Administration (NOAA), Commerce.

ACTION: Notice; issuance of permit amendment.

SUMMARY: Notice is hereby given that Alaska Department of Fish and Game (ADF&G), Division of Wildlife Conservation, Juneau, AK (Responsible Party: Robert Small, Ph.D.) has been issued a minor amendment to Scientific Permit No. 15324.

ADDRESSES: The amendment and related documents are available for review upon written request or by appointment in the Permits and Conservation Division, Office of Protected Resources, NMFS, 1315 East-West Highway, Room 13705, Silver Spring, MD 20910; phone (301) 427-8401; fax (301) 713-0376.

FOR FURTHER INFORMATION CONTACT: Sara Young or Amy Sloan, phone (301) 427-8401.

SUPPLEMENTARY INFORMATION: The requested amendment has been granted under the authority of the Marine Mammal Protection Act of 1972, as amended (16 U.S.C. 1361 et seq.) and the regulations governing the taking and importing of marine mammals (50 CFR part 216).

The original permit (No. 15324), issued on May 25, 2011 (76 FR 30309) authorized taking spotted (Phoca largha), ringed (Phoca hispida), bearded (Erignathus barbatus), and ribbon seals (Histriophoca fasciata) in the Bering, Chukchi, and Beaufort Seas of Alaska to monitor the status and health of all four species by analyzing samples from the subsistence harvest and by documenting movements and habitat use by tracking animals with satellite transmitters through December 31, 2016. The major amendment (No. 15324-01) amended the permit to include: (1) Takes by harassment during aerial and vessel surveys to monitor seal distribution relative to changes in sea ice; (2) increased takes by incidental harassment; (3) the use of additional sedative drugs during capture activities; and (4) the use of remote dart-delivery as a method for capturing bearded seals. reduced the number of authorized mortalities for bearded seals and ringed seals. A second amendment (No. 15324-02) was issued to: (1) Modify the annual research time period from March-November to year-round; (2) authorize captures on land (in addition to already permitted captures in water and on ice); (3) modify open water capture techniques for bearded seals to include the use of a non-lethal deterrent (e.g., rubber bullets, bean bags, or paintballs) aimed near but not on seals while pursuing a seal prior to capture in a net to increase the chances of successful capture. The minor amendment (No. 15324-03) extends the duration of the permit through December 31, 2017, but does not change any other terms or conditions of the permit.

Dated: October 31, 2016.
Julia Harrison,
Chief, Permits and Conservation Division, Office of Protected Resources, National Marine Fisheries Service.

[FR Doc. 2016-26677 Filed 11-3-16; 8:45 am]

BILLING CODE 3510-22-P